ENVIRONMENTAL PROTECTION AGENCY

EPA-HQ-OPP-2005-0061; FRL-7771-4]

Azinphos-methyl; Order to Amend Registrations to Terminate Certain Uses

AGENCY: Environmental Protection Agency (EPA).

ACTION: Notice.

SUMMARY: This notice announces the order to amend registrations to terminate certain uses, voluntarily requested by the registrant(s) and accepted by the Agency, of end-use products containing the pesticide azinphos-methyl, pursuant to section 6(f)(1) of the Federal Insecticide, Fungicide, and Rodenticide Act (FIFRA), as amended. This cancellation order follows an August 17, 2005, Federal Register Notice of Receipt of Requests (70 FR 48395) (FRL-7733-3) from the azinphos-methyl registrants to amend their product registrations to terminate certain uses of azinphos-methyl from their product registrations. In the August 17, 2005 Notice, EPA indicated that it would issue an order implementing the amendments to terminate uses, unless the Agency received substantive comments within the 60-day comment period that would merit its further review of these requests. The Agency received two comments on the notice. These comments have been reviewed and taken into consideration in the Agency's decision to proceed with this termination order, and a response was sent to each commentor and placed in the public docket. EPA's decision is discussed in Unit III. of this notice. Any distribution, sale, or use of the azinphos-methyl products subject to this cancellation order is permitted only in accordance with the terms of this order, including any existing stocks provisions.

DATES: The cancellations are effective March 29, 2006.

FOR FURTHER INFORMATION CONTACT: Diane Isbell, Special Review and Reregistration Division (7508C), Office of Pesticide Programs, Environmental Protection Agency, 1200 Pennsylvania Ave., NW., Washington, DC 20460-0001; telephone number: (703) 308-8154; fax number: (703) 308-8041; e-mail address: isbell.diane@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under Docket identification number (ID) EPA-HQ-OPP-2006-0061; FRL-7771-4. Publicly available docket materials are available either electronically at http://www.regulations.gov or in hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

2. Electronic access. You may access this Federal Register document electronically through the EPA Internet under the “Federal Register” listings at http://www.epa.gov/fedrgstr/.

II. What Action is the Agency Taking?

In May of 2002, Bayer CropScience, Makheteshim Chemical Works, Gowan Company, and Micro-Flo Corporation signed a Memorandum of Agreement with EPA implementing the provisions of the Azinphos-methyl Interim Reregistration Eligibility Decision by dividing the universe of uses into three groups. Group 1 contained 23 crops with little use that were deleted from product labels immediately. Group 2 consists of the seven uses that are the subject of this order, and are scheduled to be phased out in September, 2006. The Group 2 uses included: caneberries, cotton, cranberries, peaches/nectarines, potatoes, and Southern pine seed orchards. Group 3 is comprised of the only 10 remaining uses which have time-limited registrations that are currently in the process of being reevaluated. This Order implements the Agency's decision on the Group 2 uses for azinphos-methyl.

Table 1 includes the product registration numbers, the names of the products requested to be terminated and the name of the registrants in sequence by EPA number.

Table 1.— Azinphos-methyl Product Registration Amendments to Terminate Uses
Registration No. | Product name | Company
264-733 | Guthion Solupak 50% Wettable Powder Insecticide | Bayer Cropscience
10163-78 10163-138 10163-139 10163-180 | Gowan Azinphos-M 50 WSB Gowan Azinphos-M 35 WP Gowan Azinphos-M 35 WSB Gowan Azinphos 50 PVA | Gowan Company
11678-53 66222-11 | Cotnion-Methyl Azinphos-methyl 50W | Makhteshim Chemical Works
51036-164 | Azinphos-methyl 50W | Microflo Company

Table 2 includes the names and addresses of record for the registrants that requested use terminations for their products, in sequence by EPA company number.

Table 2.— Registrants of Amended Azinphos-methyl Products
EPA Company No. | Company Name and Address
264 | Bayer CropScience 2 T.W. Alexander Drive Research Triangle Park, North Carolina 27709
10163 | Gowan Company P.O. Box 5569 Yuma, Arizona 85366-5569
11678 66222 | Makhteshim Chemical Works 4515 Falls of Neuse Road, Suite 300 Raleigh, North Carolina 27609
51036 | Micro-Flo Corporation, LLC Oak Court Drive Memphis, Tennessee 38117

III. Summary of Public Comments Received and Agency Response to Comments

During the public comment period provided, EPA received two comments in response to the August 17, 2005 Federal Register notice announcing the Agency's receipt of the requests to terminate certain uses of azinphos-methyl. The Agency has responded individually to each of those comments and placed copies of the responses in the public docket.

IV. Cancellation Order

Pursuant to FIFRA section 6(f), EPA hereby approves the requested cancellations and amendments to terminate uses of azinphos-methyl registrations identified in Table 1 of Unit II. Accordingly, the Agency orders that the azinphos-methyl product registrations identified in Table 1 of Unit II. are hereby amended to terminate the affected uses. Any distribution, sale, or use of the products identified in Table 1 of Unit II. in a manner inconsistent with this order, including any of the provisions for disposition of existing stocks set forth below in Unit VI., will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish for public comment a notice of receipt of any such request in the Federal Register. Thereafter, following the public comment period, the Administrator may act on such a request.

VI. Provisions for Disposition of Existing Stocks

Existing stocks are those stocks of registered pesticide products which are currently in the United States and which were packaged, labeled, and released for shipment prior to the effective date of the cancellation action.

The Agency proposed to include the following provisions for the treatment of any existing stocks of the azinphos-methyl end-use products identified in Table 1: The distribution or sale of these products is permitted until March 31, 2006. The use of existing stocks of these products in the United States is permitted until September 30, 2006 provided such use is in a manner consistent with the labeling of these products.

Section III B 3 of the 2002 Memorandum of Agreement provides for extension of sale and distribution of existing stocks of end-use products by an equal period of time if EPA issues the termination order after August 31, 2005. Distribution or sale of existing stocks of end-use products, is allowed until March 31, 2006. Use of these end-use products is allowed until September 30, 2006, to avoid difficulties and confusion to growers that could result from a mid-use season existing stocks date. The existing stocks dates in this notice for end-use products are compatible with those established for the corresponding manufacturing-use products.

List of Subjects

Environmental protection, Pesticides and pests.

Dated: March 23, 2006.
Debra Edwards,
Director, Special Review and Reregistration Division, Office of Pesticide Programs.

[FR Doc. E6-4569 Filed 3-28-06; 8:45 am]

BILLING CODE 6560-50-S